DEPARTMENT OF THE TREASURY

Office of Thrift Supervision

American Sterling Bank, Sugar Creek, MO; Notice of Appointment of Receiver

Notice is hereby given that, pursuant to the authority contained in section 5(d)(2) of the Home Owners' Loan Act, the Office of Thrift Supervision has duly appointed the Federal Deposit Insurance Corporation as sole Receiver for American Sterling Bank, Sugar Creek, Missouri (OTS No. 15909) on April 17, 2009.

Dated: April 20, 2009.
By the Office of Thrift Supervision.
Sandra E. Evans,
Federal Register Liaison.

[FR Doc. E9-9398 Filed 4-23-09; 8:45 am]

BILLING CODE 6720-01-M